DEPARTMENT OF JUSTICE

Drug Enforcement Administration

[Docket No. DEA-580]

Bulk Manufacturer of Controlled Substances Application: Stepan Company

ACTION: Notice of application.

DATES: Registered bulk manufacturers of the affected basic classes, and applicants therefore, may file written comments on or objections to the issuance of the proposed registration on or before April 24, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on December 18, 2019, Stepan Company, 100 West Hunter Avenue, Maywood, New Jersey 07607-1021 applied to be registered as a bulk manufacturer of the following basic class of controlled substances:

Controlled substance | Drug code | Schedule
Cocaine | 9041 | II
Ecgonine | 9180 | II

The company plans to manufacture the above-listed controlled substances in bulk for distribution to its customers.

Dated: February 3, 2020.
William T. McDermott,
Assistant Administrator.

[FR Doc. 2020-03618 Filed 2-21-20; 8:45 am]

BILLING CODE 4410-09-P